DEPARTMENT OF TRANSPORTATION

National Highway Traffic Safety Administration

[Docket No. NHTSA-2004-17437; Notice 2]

PACCAR, Inc., Grant of Petition for Decision of Inconsequential Noncompliance

PACCAR, Inc. (PACCAR), has determined that the trailer antilock brake system (ABS) warning lights on certain vehicles that were produced by Peterbilt Motors Company (Peterbilt), a division of PACCAR, from April 3, 2003, to November 28, 2003, do not comply with S5.1.6.2(b) of Federal Motor Vehicle Safety Standard (FMVSS) No. 121, “Air brake systems.” Pursuant to 49 U.S.C. 30118(d) and 30120(h), PACCAR has petitioned for a determination that this noncompliance is inconsequential to motor vehicle safety and has filed an appropriate report pursuant to 49 CFR part 573, “Defect and Noncompliance Reports.” Notice of receipt of the petition was published with a 30 day comment period on April 20, 2004, in the Federal Register (69 FR 21189). NHTSA received no comments.

Approximately 4009 Peterbilt models 378, 379, 385, and 387 are affected. S5.1.6.2(b) of FMVSS No. 121 requires that “Each * * * truck tractor * * * shall * * * be equipped with an indicator lamp * * * which is activated whenever the [antilock brake system] malfunction signal circuit * * * receives a signal indicating an ABS malfunction on one or more towed vehicles(s).”

The affected vehicles have two types of fluorescent lights installed in the cab sleeper. These lights create an electromagnetic interference (EMI) with the trailer ABS malfunction signal manufactured by Power Line Carrier (PLC). The fluorescent lights, when on, can interfere with the proper operation of the PLC signal, preventing the telltale from functioning. The PLC signal and the telltale operate correctly when the fluorescent light in the sleeper is off.

PACCAR believes that the noncompliance is inconsequential to motor vehicle safety, and that no corrective action is warranted. PACCAR states that the in-cab warning lamp will not function only if the fluorescent light in the sleeper is on. PACCAR asserts that this is not likely to occur while the vehicle is being driven and if so, it would be a small percentage of the time.

PACCAR explains that not all suspect vehicles will exhibit the behavior, because due to manufacturing variances, some fluorescent lights emit more EMI than others. PACCAR states that the PLC signal strength from the trailer is also a factor. PACCAR explains that the telltale will operate normally in most cases with a strong trailer PLC signal and only marginal EMI; however the telltale will not operate with a normal to marginal trailer PLC signal and high EMI. In addition, the indicator on the exterior of the trailer is not affected by this defect and would continue to warn the driver in the event of a trailer ABS malfunction. PACCAR also states that the foundation brakes on the trailer are not impacted.

The agency agrees with PACCAR that this noncompliance will not have an adverse effect on vehicle safety. For the in-cab warning lamp malfunction to occur, first the fluorescent light in the sleeper must be on while the vehicle is being driven, which is not likely to occur often, and second, even when this occurs, there must be also be a high EMI from the cab-sleeper fluorescent lights combined with a normal to marginal trailer signal. Even in these cases, the ABS malfunction indicator lamp on the exterior of the trailer will continue to function and is visible from the driver side mirror. In addition, the foundation brakes on the trailer are not affected. Paccar has fixed the problem.

In consideration of the foregoing, NHTSA has decided that the petitioner has met its burden of persuasion that the noncompliance described is inconsequential to motor vehicle safety. Accordingly, PACCAR's petition is granted and the petitioner is exempted from the obligation of providing notification of and a remedy for the noncompliance.

Authority: 49 U.S.C. 30118, 30120; delegations of authority at CFR 1.50 and 501.8.

Issued on: June 28, 2004.
Kenneth N. Weinstein,
Associate Administrator for Enforcement.

[FR Doc. 04-15161 Filed 7-2-04; 8:45 am]

BILLING CODE 4910-59-P